SMALL BUSINESS ADMINISTRATION

[Disaster Declaration #10525 and #10526]

New Jersey Disaster Number NJ-00004

AGENCY: U.S. Small Business Administration.

ACTION: Amendment 2.

SUMMARY: This is an amendment of the Presidential declaration of a major disaster for the State of New Jersey (FEMA-1653-DR), dated 07/07/2006.

Incident: Severe Storms and Flooding.

Incident period: 06/23/2006 through 07/10/2006.

Effective Date: 09/06/2006.

Physical Loan Application Deadline Date: 09/11/2006.

EIDL Loan Application Deadline Date: 04/09/2007.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the President's major disaster declaration for the State of New Jersey, dated 07/07/2006, is hereby amended to extend the deadline for filing applications for physical damages as a result of this disaster to 09/11/2006.

All other information in the original declaration remains unchanged.

(Catalog of Federal Domestic Assistance Numbers 59002 and 59008)

Cheri L. Cannon,
Acting Associate Administrator for Disaster Assistance.

[FR Doc. E6-15211 Filed 9-12-06; 8:45 am]

BILLING CODE 8025-01-P